DEPARTMENT OF ENERGY

Federal Energy Regulatory Commission

[Docket No. ER17-2275-000]

New York Independent System Operator, Inc.; Notice of Filing

Take notice that on August 10, 2017, pursuant to section 211 of the Federal Power Act ¹ and section 9.3.3 of New York Independent System Operator, Inc. filed an application requesting a Petition for Limited Waiver and Request for Expedited Action of Green Power Energy LLC.

¹ 16 U.S.C. 824j (2012).

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 31, 2017.

Dated: August 10, 2017.
Kimberly D. Bose,
Secretary.

[FR Doc. 2017-17357 Filed 8-16-17; 8:45 am]

BILLING CODE P6717-01-P